FEDERAL COMMUNICATIONS COMMISSION

47 CFR Part 2

[ET Docket No. 24-136; FR ID 302403]

Promoting the Integrity and Security of Telecommunications Certification Bodies, Measurement Facilities, and the Equipment Authorization Program

AGENCY: Federal Communications Commission.

ACTION: Proposed rule.

SUMMARY: In this document, the Federal Communications Commission (Commission or FCC) proposes and seeks comment on further measures to safeguard the integrity of the FCC's equipment authorization program. The Commission seeks comment on whether to extend recently adopted prohibitions to include entities subject to the jurisdiction of a foreign adversary or alternatively apply a presumption-of-prohibition to a larger class of entities. Additionally, the Commission seeks comment on expanding the group of prohibited entities to include several additional lists from federal agencies or statutes and ways it can facilitate and encourage more equipment authorization testing to occur at test labs within the United States or allied countries. Lastly, the Commission encourages further comment on post-market surveillance procedures to ensure compliance to prohibitions on authorization of covered equipment.

DATES: Comments are due on or before August 15, 2025 and reply comments are due on or before September 15, 2025.

ADDRESSES: You may submit comments, identified by ET Docket No. 24-136, by any of the following methods:

Federal Communications Commission's Website: https://www.fcc.gov/ecfs/. Follow the instructions for submitting comments. See Electronic Filing of Documents in Rulemaking Proceedings, 63 FR 24121 (1988).

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People with Disabilities: Contact the Commission to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Jamie Coleman of the Office of Engineering and Technology, at Jamie.Coleman@fcc.gov or 202-418-2705.

SUPPLEMENTARY INFORMATION: This is a summary of the Commission's Further Notice of Proposed Rulemaking, ET Docket No. 24-136; FCC 25-27, adopted on May 22, 2025, and released on May 27, 2025. The full text of this document is available for public inspection and can be downloaded at https://docs.fcc.gov/public/attachments/FCC-25-27A1.pdf. Alternative formats are available for people with disabilities (Braille, large print, electronic files, audio format) by sending an email to fcc504@fcc.gov or calling the Commission's Consumer and Governmental Affairs Bureau at (202) 418-0530 (voice), (202) 418-0432 (TTY).

Comment Period and Filing Procedures. Pursuant to §§ 1.415 and 1.419 of the Commission's rules, 47 CFR 1.415, 1.419, interested parties may file comments and reply comments on or before the dates provided in the DATES section of this document. Comments must be filed in ET Docket No. 24-136. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

Paper Filers: Parties who choose to file by paper must file an original and one copy of each filing. If more than one docket or rulemaking number appears in the caption of the proceeding, filers must submit two additional copies for each additional docket or rulemaking number.

○ Commercial overnight mail (other than U.S. Postal Service Express Mail and Priority Mail) must be sent to 9050 Junction Drive, Annapolis Junction, MD 20701.

○ U.S. Postal Service first-class, Express, and Priority mail must be addressed to 45 L Street NE, Washington, DC 20554.

Ex Parte Presentations. The proceedings shall be treated as “permit-but-disclose” proceedings in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in the proceeding should familiarize themselves with the Commission's ex parte rules.

Procedural Matters

Regulatory Flexibility Act. The Regulatory Flexibility Act of 1980, as amended (RFA), requires that an agency prepare a regulatory flexibility analysis for notice and comment rulemakings, unless the agency certifies that “the rule will not, if promulgated, have a significant economic impact on a substantial number of small entities.” 5 U.S.C. 603, 605(b). The RFA, 5 U.S.C. 601-612, was amended by the Small Business Regulatory Enforcement Fairness Act of 1996 (SBREFA), Public Law 104-121, Title II, 110 Stat. 857 (1996). Accordingly, the Commission has prepared an Initial Regulatory Flexibility Analysis (IRFA) concerning the possible/potential impact of the rule and policy changes contained in the FCC document. The IRFA is found in Appendix D of the FCC document, https://docs.fcc.gov/public/attachments/FCC-25-27A1.pdf. The Commission invites the general public, in particular small businesses, to comment on the IRFA. Comments must have a separate and distinct heading designating them as responses to the IRFA and must be filed by the deadlines for comments on the Further Notice of Proposed Rulemaking indicated in the DATES section of this document.

Paperwork Reduction Act. This document may contain proposed or modified information collection requirements. Therefore, the Commission seeks comment on potential new or revised information collections subject to the Paperwork Reduction Act of 1995. If the Commission adopts any new or revised information collection requirements, the Commission will publish a notice in the Federal Register inviting the general public and the Office of Management and Budget to comment on the information collection requirements, as required by the Paperwork Reduction Act of 1995, Public Law 104-13. In addition, pursuant to the Small Business Paperwork Relief Act of 2002, Public Law 107-198, see 44 U.S.C. 3506(c)(4), the Commission seeks specific comments on how it might further reduce the information collection burden for small business concerns with fewer than 25 employees.

Accessing Materials

Providing Accountability Through Transparency Act. Consistent with the Providing Accountability Through Transparency Act, Public Law 1189-9, a summary of the Notice of Proposed Rulemaking will be available at https://www.fcc.gov/proposed-rulemakings.

OPEN Government Data Act. The OPEN Government Data Act, requires agencies to make “public data assets” available under an open license and as “open Government data assets,” i.e., in machine-readable, open format, unencumbered by use restrictions other than intellectual property rights, and based on an open standard that is maintained by a standards organization. 44 U.S.C. 3502(20), (22), 3506(b)(6)(B). This requirement is to be implemented “in accordance with guidance by the Director” of the OMB. (OMB has not yet issued final guidance. The term “public data asset” means “a data asset, or part thereof, maintained by the Federal Government that has been, or may be, released to the public, including any data asset, or part thereof, subject to disclosure under [the Freedom of Information Act (FOIA)].” 44 U.S.C. 3502(22). A “data asset” is “a collection of data elements or data sets that may be grouped together,” and “data” is “recorded information, regardless of form or the media on which the data is recorded.” 44 U.S.C. 3502(17), (16).

Synopsis

In the Further Notice of Proposed Rulemaking (FNPRM), the Commission seeks to expand upon its efforts to ensure the integrity of the FCC's equipment authorization program, particularly through prohibitions on ownership, direction, or control by untrustworthy actors that pose a risk to national security. Specifically, the Commission looks at additional sources of entities that pose a risk to national security and seeks comment on whether and how it should expand the FCC's list of prohibited entities. To balance these efforts, the Commission also solicits feedback on ways to increase equipment testing and certification within the United States or allied countries. The Commission also explores other opportunities to build upon these efforts by proposing tighter controls over post-market surveillance procedures, avoiding conflicts between test labs and the telecommunication certification bodies (TCBs) that review their test reports, and requiring equipment authorized under the Supplier's Declaration of Conformity (SDoC) procedure to be tested at an accredited and FCC-recognized laboratory.

A. Expanding Equipment Authorization Program Prohibitions

Other Entities Potentially Controlled by a Foreign Adversary. In the Report & Order portion of the proceeding, the Commission imposed restrictions on TCBs, test labs, and laboratory accreditation bodies owned by certain entities on one or more federal agency or statutory lists. In the Notice of Proposed Rulemaking (NPRM) (89 FR 55530), the Commission also sought comment “on whether there are other types of direct or indirect ownership or control, or other types of influences beyond the Covered List determinations that potentially could adversely affect a TCB's or test lab's trustworthiness, or otherwise undermine the public's confidence.” The Commission seeks further comment on various additions to the list of prohibited entities.

The Commission is concerned, based on the record before us, that limiting the FCC's restriction to TCBs, test labs, and laboratory accreditation bodies that are owned by, or under the direction or control of, prohibited entities, may not be sufficient to address the threats to the integrity of the FCC's equipment authorization processes posed by malign foreign actors. Now that the Commission has included foreign adversaries, as defined by the Department of Commerce, as prohibited entities, should the Commission prohibit recognition of any TCB, test lab, or laboratory accreditation body that conducts operations related to the Commission's equipment authorization program within foreign adversary countries? In other words, should the Commission extend the prohibitions in this rule beyond TCBs, test labs, and laboratory accreditation bodies that are owned by, controlled by, or subject to the direction of a foreign adversary or other prohibited entity to also include those TCBs, test labs, and laboratory accreditation bodies that are subject to the jurisdiction of a foreign adversary country? Should the Commission fully extend the prohibitions adopted in the Report and Order portion of the proceeding to any TCB, test lab, or laboratory accreditation body that meets the Commerce Department's definition of “owned by, controlled by, or subject to the jurisdiction of or direction of a foreign adversary”? If so, how should the Commission implement such a prohibition? For example, would the Commission base the prohibition on any activity that physically occurs within the relevant foreign adversary country or any activity performed by an entity that is subject to the jurisdiction of such, regardless of physical location? Should the Commission require disclosure of the location of employees or activity conducted by the TCB, test lab, or laboratory accreditation body within the jurisdiction of a foreign adversary or other prohibited entity? What other methods of implementation should the Commission consider to protect the integrity of its equipment authorization program against foreign adversary countries?

In what ways would foreign adversary countries have the capability to effectively control any and all entities organized under or doing business within their jurisdiction? Would such action be under- or over-inclusive? What would the economic effects of such action be? In particular, could TCBs and test labs conducting equipment authorization functions in China, or any other foreign adversary, be rapidly replaced by TCBs and test labs conducting such functions outside of a foreign adversary country? What are the estimated costs associated with such a prohibition? How much of the costs are estimated to be passed on to U.S. consumers? Commenters have also raised concerns that the withdrawal of recognition of a significant number of testing facilities would slow down the equipment approval process for manufacturers and require ample time for U.S. companies to identify alternative testing facilities and make new arrangements for certifications, and may even require breaking commercial agreements. How, if at all, should the Commission weigh these economic concerns against potential national security threats? What could the Commission do to assist this transition and mitigate economic harms? As an alternative to wholesale prohibitions, should the Commission consider other limitations on TCBs and test labs operating in foreign adversary countries to mitigate the potential risks to national security and the integrity of the equipment authorization program? If so, what sort of mitigation measures would suffice to ensure the integrity of the equipment authorization program against national security risks?

The Commission also seeks comment on the extent to which the existence of test labs in foreign adversary countries, particularly China, encourage trade and supply chain dependencies for radio frequency (RF)-emitting equipment. Does the prominence of FCC-recognized test labs in China encourage greater manufacturing and production of finished equipment and components in China? If so, how much? Do test labs in China offer favorable treatment for equipment produced in China or by Chinese companies? Should the Commission prohibit test labs in China from participation in the equipment authorization program in part as a means of reducing these trade and supply chain dependencies on foreign adversaries, given the potential risks to national security threats such dependencies pose? How, if at all, do these considerations relate to the goals of the proceeding?

As the Commission weighs the national security threat posed by test labs and test lab accreditation bodies located in foreign adversary nations, to what extent should the Commission consider the President's determination that nominally private companies in China in particular are not really “private,” but functionally controlled by, and answerable to, the Chinese government and the Chinese Communist Party, which is a foreign adversary? For example, Executive Order 13959 states President Donald J. Trump's finding that, “key to the development of the PRC's military, intelligence, and other security apparatuses is the country's large, ostensibly private economy. Through the national strategy of Military-Civil Fusion, China increases the size of the country's military-industrial complex by compelling civilian Chinese companies to support its military and intelligence activities. Those companies, though remaining ostensibly private and civilian, directly support China's military, intelligence, and security apparatuses and aid in their development and modernization.” Indeed, in February of this year, President Trump wrote to several of his Cabinet secretaries recognizing that “[t]hrough its national Military-Civil Fusion strategy, [China] increases the size of its military-industrial complex by compelling civilian Chinese companies and research institutions to support its military and intelligence activities.” Even the Supreme Court has accepted that a private company in China “is subject to Chinese laws that require it to assist or cooperate with the Chinese Government's intelligence work and to ensure that the Chinese Government has the power to access and control private data the company holds.” As the Public Safety and Homeland Security Bureau has previously recognized, “the Chinese government is highly centralized and exercises strong control over commercial entities in its sphere of influence, permitting the government, including state intelligence agencies, to demand that private communications sector entities cooperate with governmental requests, including revealing customer information and network traffic information. Demands for such information could come in the form of legal pressure, as in the case of the Chinese National Intelligence Law, or in the form of extralegal political pressure taken through control of subsidy funding, employee unions, or threats and/or coercion. Several commenters also made this point.

The Commission seeks comment as well on whether and to what extent the Commission should factor in the military situation in the Indo-Pacific in recognizing test labs and laboratory accreditation bodies. To what extent should the Commission consider the threat China poses to U.S. interests in the Indo-Pacific region, particularly with regard to a possible invasion of Taiwan, potentially as soon as 2027? If such a conflict erupts, there would no doubt be a substantial, if not total, rupture in trade and economic relations between the U.S. and China, raising significant concerns if the Commission's authorization program is partially reliant on test labs in China. Should the Commission treat test labs in China differently from those in other foreign adversary countries given this consideration of potential military conflicts? The Commission seeks comment on whether it should consider this possibility in determining whether to prohibit recognition of a broader array of test labs in China. How, if at all, do these considerations relate to the goals of the proceeding?

Are there other considerations appropriate for the Commission to consider related to the goals of the proceeding, for example, should the Commission consider the extent to which there is a lack of reciprocity with another country with regard to equipment testing and certification? For example, should the Commission take into account whether China requires domestic testing for all equipment sold in China? If so, to what extent does that unfairly encourage entities that want to sell equipment both in the U.S. and China to test their equipment in China-based test labs?

Alternative Approaches. Congress recently twice codified a definition of “controlled by a foreign adversary” in statutes involving data privacy. In this context, Congress defines a “company or other entity” as “controlled by a foreign adversary” if it satisfies one of three conditions:

(A) a foreign person that is domiciled in, is headquartered in, has its principal place of business in, or is organized under the laws of a foreign adversary country;

(B) an entity with respect to which a foreign person or combination of foreign persons described in subparagraph (A) directly or indirectly own at least a 20 percent stake; or

(C) a person subject to the direction or control of a foreign person or entity described in subparagraph (A) or (B).

The Commission seeks comment on whether to revise the definitions adopted in the Report & Order portion of the proceeding to include entities that meet one of these three conditions to be considered “controlled by a foreign adversary.” Should the Commission consider “historical patterns of behavior by affiliated organizations,” as suggested by the Foreign Investment Review Section, National Security Division, U.S. Department of Justice? Can any entity that Congress has, in the context of data privacy considerations, twice found to be “controlled by a foreign adversary” be trusted not to undermine the integrity and security of the equipment authorization program? Would such a definition be under- or over-inclusive? What would be the economic harms or implementation burden of such a prohibition? What steps, if any, could the Commission undertake to mitigate those concerns? As an alternative to outright prohibition of participation by such entities, should the Commission impose mitigation requirements on entities “controlled by foreign adversaries”?

Should the Commission adopt the definition used in the CHIPS Act for a “foreign entity of concern”? This definition lists various ways for an entity to be a “foreign entity of concern,” including being “owned by, controlled by, or subject to the jurisdiction or direction of” China, Russia, Iran, or North Korea, which is similar to the statutory definition of “controlled by a foreign adversary.” However, the CHIPS Act also includes numerous other ways for an entity to be a “foreign entity of concern,” including being designated as a foreign terrorist organization and being alleged to have been involved in various activities for which a conviction was obtained. Is one of these definitions preferable? Should the Commission adopt some amalgamation of this definition along with the other statutory definition?

Alternatively, should the Commission adopt a different definition? If so, what should that definition be and why? The Commission welcomes comment on which category of entities are “controlled by a foreign adversary.” Should the Commission adopt a more limited or expansive definition? Does the definition need to be clearly defined? To what extent should the definition be aligned with other Commission rules on foreign ownership?

As an alternative to an outright prohibition on TCBs, test labs, and laboratory accreditation bodies located in or subject to the jurisdiction of a foreign adversary, should the Commission adopt a presumption-of-prohibition policy? Under this policy, any entity subject to the jurisdiction of a foreign adversary would need to provide clear-and-convincing evidence that there was no national security risk from its participation in the equipment authorization program. What are some potential benefits and drawbacks of such an approach? If the Commission adopts such an approach, should the Commission use a different standard than clear-and-convincing? Should the Commission consult the Committee for the Assessment of Foreign Participation in the United States Telecommunications Services Sector and require its approval before recognizing for participation in the equipment authorization program TCBs, test labs, or laboratory accreditation bodies “controlled by a foreign adversary”? Should the Commission adopt any alternative mechanism to screen such entities for participation?

Other Federal Agency Lists. In the NPRM, the Commission sought comment on “whether the Commission should consider any other Executive Branch agency lists to rely upon as a source to identify entities that raise national security concerns and to restrict participation of those entities in the FCC's equipment authorization program. The Report & Order portion of the proceeding incorporated several of these lists in the FCC's determination regarding prohibited entities. What other federal agency lists, or entities identified by federal agencies, or lists created by statute, should the Commission consider including in its definition of “prohibited entity”? The Commission welcomes comment on which “lists” are particularly appropriate and which are not.

The Commission is particularly interested in and seeks comment on the usefulness of relying on the following sources:

• The Protecting Americans from Foreign Adversary Controlled Applications Act (“PFACA”) imposed restrictions on the domestic operations of certain foreign adversary-controlled social media applications. In particular, the PFACA imposed restrictions on applications directly or indirectly operated by ByteDance, Ltd., TikTok, their subsidiaries, entities they controlled, or any other entity that the President determines “is controlled by a foreign adversary” and “present[s] a significant threat to the national security of the United States.” Should the Commission rely on this list to impose restrictions with regard to participation in the equipment authorization program given that either Congress or the President has expressly determined such entities to be national security threats? The Commission welcomes comment on the usefulness and applicability of this list in terms of the equipment authorization program.

• Pursuant to various statutory authorities and Executive Orders, the Office of Foreign Assets Control (“OFAC”) in the U.S. Department of Treasury publishes a Specially Designated Nationals and Blocked Persons List (“SDN List”) of entities subject to certain prohibitions. “Collectively, such individuals and companies are called `Specially Designated Nationals' or `SDNs.' Their assets are blocked, and U.S. persons are generally prohibited from dealing with them.” The justifications for these sanctions are wide ranging, but entities on the SDN List are generally subject to the most extreme form of sanctions, suggesting that such entities should have no role in the Commission's TCB and test lab program. Additionally, although the SDN List is long, it is published, and businesses have well-established compliance mechanisms. Should the Commission include entities on the SDN List in its definition of prohibited entities?

• The National Defense Authorization Act for Fiscal Year 2024 prohibits the DOD from procuring batteries produced by several Chinese entities, starting in 2027. This list included leading battery manufacturers and their successors. Should the Commission consider this list of battery manufacturers as part of its definition of prohibited entities? Would this list be relevant or useful in determining the integrity and security of TCBs, test labs, and laboratory accreditation bodies?

Are there any other federal agency or statutory “lists” that the Commission should consider including within its prohibition?

B. Increasing Equipment Authorization Testing and Certification Within the United States

The actions the Commission takes in the Report and Order portion of the proceeding are the first steps in ensuring the integrity of the FCC's equipment authorization program against ownership, direction, or control by untrustworthy actors that pose a risk to national security. To further the FCC's goals in this area, the Commission seeks comment on ways in which it can facilitate and encourage more equipment authorization testing and certification within the United States and allied countries, such as those with which the Commission has a mutual recognition agreement (MRA). In addition to financial, what other hinderances or advantages (i.e., costs and benefits) would entities seeking equipment authorization encounter in relying primarily on TCBs, test labs, and laboratory accreditation bodies located in the U.S.? What conflicts or other concerns might arise? What rules or processes could the Commission implement or modify to encourage equipment authorization processes that rely primarily upon domestic TCBs, test labs, and laboratory accreditation bodies? How can the Commission encourage the establishment of new, or expansion of existing, TCBs and test labs in the U.S.? What are the primary barriers limiting the presence of TCBs and test labs in the U.S.? Are there actions the Commission can take to reduce regulatory barriers to TCBs and test labs? Should the Commission offer incentives for utilization of domestic TCBs and test labs, and, if so, what sort of incentives? Should any of these incentives or efforts to increase testing be similarly directed toward utilization of TCBs and test labs in allied countries, such as those with which the U.S. has an MRA? If so, which ones and why?

To what extent would having more equipment authorization testing and certification in the United States reduce risks and threats to national security in terms of the equipment supply chain or in other ways? Given the importance of a strong industrial base for national security, should the Commission consider such reindustrialization goals in crafting a program of incentives? The Commission seeks comment on the overall benefits and costs, with quantifiable data, associated with any proposed measures to encourage more equipment authorization testing and certification within the United States or allied countries.

C. Other Matters

Post-market surveillance procedures. Commission rules impose certain obligations on each TCB to perform post-market surveillance, based on “type testing a certain number of samples of the total number of product types” that the TCB has certified. In light of issues discussed in the Report and Order portion of the proceeding to ensure the integrity of the FCC's equipment authorization program, the Commission invites further comment on whether the Commission should revise the post-market surveillance rules, policies, or guidance to address such concerns. The Commission seeks comment on reasonable practices TCBs could implement to better identify equipment that may be noncompliant with Commission rules, despite authorization. In particular, should the Commission change the post-market surveillance requirements to require that TCBs review certification grants by other TCBs? How would such a requirement work? Should the Commission require, instead, that TCBs engage independent reviewers/auditors to conduct their required post market surveillance? If so, what would be the criteria for such third-party reviewers? The Commission invites comment on this and any other measures the Commission might take to strengthen the integrity of the post-market surveillance process.

TCB and test lab relationships. The FCC's rules incorporate ISO/IEC 17025 and ISO/IEC 17065 standards, against which accreditation bodies assess test labs and TCBs, respectively to ensure, in part, that these entities operate in a competent, consistent, and impartial manner. TCBs also are required under the FCC's rules to have the technical expertise and capability to test the equipment it will certify and be accredited to ISO/IEC 17025. The Commission recognizes that this results in most, or all, TCBs in a position to not only verify the test reports received with an application for authorization but also to produce such test reports. The Commission seeks comment on any potential for this current structure to raise questions as to the integrity of the FCC's equipment authorization program or the impartiality of TCBs or test labs. What types of procedures have TCBs and test labs put into place to ensure impartiality, particularly when a TCB reviews an authorization application for which a test lab under the same ownership as the TCB conducted the required testing? What additional information should the Commission require regarding the relationship between the individuals who each performed a defined role in the review and approval process? The Commission seeks comment on additional safeguards that it should consider to further ensure the impartiality of our TCBs and test labs. Specifically, the Commission seeks comment on whether it should restrict the relationships between TCBs and test labs to prevent TCBs from reviewing authorization applications for which the equipment was tested by a test lab owned by, or under the direction or control of the same entities that own, direct, or control the TCB.

Supplier's Declaration of Conformity Procedures. By the Report and Order portion of this proceeding, the Commission prohibits reliance upon test labs owned by, or under the direction or control of, a prohibited entity for SDoC authorization measurement requirements. The ownership information required to be collected pursuant to these new rules will be retained by the responsible party and made available to the Commission upon request. To further the FCC's efforts to ensure the integrity of the equipment authorization program, the Commission is considering additional measures to strengthen the integrity of laboratories upon which entities rely for the SDoC procedure. Specifically, the Commission proposes to require that all equipment authorized under the SDoC procedure be tested at an accredited and FCC-recognized laboratory. The Commission seeks comment on some of the impacts such an action could have on the supply chain and to the testing process, particularly with regard to the confidence in the integrity of the test labs and thereby the security of the U.S. equipment supply chain.

Ordering Clauses

Accordingly, it is ordered, pursuant to the authority found in sections 1, 4(i), 229, 301, 302, 303, 309, 312, 403, and 503 of the Communications Act of 1934, as amended, 47 U.S.C. 151, 154(i), 229, 301, 302a, 303, 309, 312, 403, and 503, section 105 of the Communications Assistance for Law Enforcement Act, 47 U.S.C. 1004; the Secure and Trusted Communications Networks Act of 2019, 47 U.S.C. 1601-1609; and the Secure Equipment Act of 2021, Public Law 117-55, 135 Stat. 423, 47 U.S.C. 1601 note, that the Further Notice of Proposed Rulemaking is hereby adopted.

It is further ordered that the Office of the Secretary, shall send a copy of the Further Notice of Proposed Rulemaking, including the Initial Regulatory Flexibility Analysis, to the Chief Counsel for Advocacy of the Small Business Administration.

List of Subjects in 47 CFR Part 2

Administrative practice and procedures, Communications, Communications equipment, Reporting and recordkeeping requirements, Telecommunications, and Wiretapping and electronic surveillance.

Federal Communications Commission.
Marlene Dortch,
Secretary.

Proposed Rules

For the reasons discussed in the document, the Federal Communications Commission proposes to amend 47 CFR part 2 as follows:

Part 2—FREQUENCY ALLOCATIONS AND RADIO TREATY MATTERS; GENERAL RULES AND REGULATIONS

1. The authority citation for part 2 continues to read as follows:

Authority: 47 U.S.C. 154, 302a, 303, and 336 unless otherwise noted.

2. Amend § 2.902 by revising the entry for “Prohibited entities” to add paragraphs (2)(vii) through (ix) to read as follows:

§ 2.902 Terms and definitions.

* * * * *

Prohibited entities.

* * * * *

(2) * * *

(vii) The Protecting Americans from Foreign Adversary Controlled Applications Act (15 U.S.C. 9901 note);

(viii) Department of Treasury, Office of Foreign Assets Control, Specially Designated Nationals and Blocked Person List; and

(ix) Section 154(b) of the National Defense Authorization Act for Fiscal Year 2024 (Pub. L. 118-31).

(3) * * *

* * * * *

2. Amend § 2.948 by revising paragraphs (a) and (b) to read as follows:

§ 2.948 Measurement facilities.

(a) Equipment authorized under the procedures set forth in this subpart must be tested at a laboratory that is:

* * * * *

(b) A laboratory that makes measurements of equipment subject to an equipment authorization must compile a description of the measurement facilities employed.

* * * * *

3. Amend § 2.949 by revising paragraphs (b)(5), (c), and (e), and adding paragraphs (c)(4) and (e)(4) to read as follows:

§ 2.949 Recognition of laboratory accreditation bodies.

* * * * *

(b) * * *

(5) Certification to the Commission that the laboratory accreditation body is not:

(i) Owned by, controlled by, or subject to the direction of a prohibited entity pursuant to § 2.902; or

(ii) Physically or legally located within the geographical jurisdiction of a foreign adversary country.

* * * * *

(c) * * *

(3) Fails to provide, or provides false or inaccurate, information regarding equity or voting interests of 5% or greater as required in this section; or

(4) Is physically or legally located within the geographical jurisdiction of a foreign adversary country.

* * * * *

(e) The Commission will withdraw recognition of any laboratory accreditation body that:

(2) Fails to provide, or provides a false or inaccurate, certification, as required by this section;

(3) Fails to provide, or provides false or inaccurate, information regarding equity or voting interests of 5% or greater, as required by this section; or

(4) Is physically or legally located within the geographical jurisdiction of a foreign adversary country.

* * * * *

4. Amend § 2.951 by revising paragraphs (a)(10), (b)(2) and (3), adding paragraph (b)(4), revising paragraphs (d)(2) and (3), and adding paragraph (d)(4) to read as follows:

§ 2.951 Recognition of measurement facilities.

(a) * * *

(10) Certification to the Commission that the laboratory is not:

(i) Owned by, controlled by, or subject to the direction of a prohibited entity pursuant to § 2.902; or

(ii) Physically or legally located within the geographical jurisdiction of a foreign adversary country.

* * * * *

(b) * * *

* * * * *

(2) That fails to provide, or that provides a false or inaccurate, certification as required in this section;

(3) That fails to provide, or provides false or inaccurate, information regarding equity or voting interests of 5% or greater as required in this section; or

(4) That is physically or legally located within the geographical jurisdiction of a foreign adversary country.

* * * * *

(d) * * *

(2) Fails to provide, or provides a false or inaccurate, certification, as required in this section;

(3) Fails to provide, or provides false or inaccurate, information regarding equity or voting interests of 5% or greater, as required in this section; or

(4) Is physically or legally located within the geographical jurisdiction of a foreign adversary country.

* * * * *

5. Amend § 2.960 by revising paragraphs (a)(2), (b)(2) and (3), adding paragraph (a)(4), revising paragraphs (h)(2) and (3), and adding paragraph (h)(4) to read as follows:

§ 2.960 Recognition of Telecommunication Certification Bodies (TCBs).

(a) * * *

* * * * *

(2) Certified to the Commission that:

(i)The TCB is not owned by, controlled by, or subject to the direction of a prohibited entity pursuant to § 2.902; or

(ii) Physically or legally located within the geographical jurisdiction of a foreign adversary country.

* * * * *

(b) * * *

* * * * *

(2) That fails to provide, or provides a false or inaccurate, certification as required in paragraph (a) of this section;

(3) That fails to provide, or provides false or inaccurate, information regarding equity or voting interests of 5% or greater; or

(4) That is physically or legally located within the geographical jurisdiction of a foreign adversary country.

(h) * * *

(2) Fails to provide, or provides a false or inaccurate, certification, as required in this section;

(3) Fails to provide, or provides false or inaccurate, information regarding equity or voting interests of 5% or greater, as required in this section; or

(4) Is physically or legally located within the geographical jurisdiction of a foreign adversary country.

* * * * *

6. Amend § 2.962 by adding (a)(3) and revising paragraphs (d)(2) and (i) introductory text to read as follows:

§ 2.962 Requirements for Telecommunication Certification Bodies.

(a) * * *

(3) A TCB is prohibited from reviewing an application that includes test data, as required under this part, that was prepared by a measurement facility that is owned by, controlled by, or subject to the direction of any entity that also owns, controls, or directs the TCB.

* * * * *

(d) * * *

* * * * *

(2) Accept test data from any Commission-recognized accredited test laboratory, except as provided in paragraph (a)(3), subject to the requirements in ISO/IEC 17065, and must not unnecessarily repeat tests.

* * * * *

(i) In accordance with ISO/IEC 17065 a TCB must perform appropriate post-market surveillance activities. These activities must be based on type testing a certain number of samples of the total number of product types that a different TCB has certified.

* * * * *

[FR Doc. 2025-13308 Filed 7-15-25; 8:45 am]

BILLING CODE 6712-01-P